DEPARTMENT OF ENERGY

10 CFR Parts 429 and 430

[Docket No. EERE-2012- BT-STD-0027]

RIN 1904-AC81

Energy Conservation Standards for Residential Dehumidifiers: Public Meeting and Availability of the Framework Document

AGENCY: Office of Energy Efficiency and Renewable Energy, Department of Energy.

ACTION: Notice of public meeting and availability of the framework document.

SUMMARY: The Department of Energy (DOE) issues a framework document to consider whether to amend the energy conservation standards for residential dehumidifiers. DOE also announces a public meeting to discuss and receive comments on issues that it will address in this rulemaking proceeding. DOE is initiating data collection for considering amended energy conservation standards for residential dehumidifiers. DOE also encourages written comments on potential amended standards, including comments on the issues identified in the framework document. The framework document, which is intended to inform stakeholders and facilitate the rulemaking process, is available at http://www1.eere.energy.gov/buildings/appliance_standards/residential/dehumidifiers.html.

DATES: DOE will hold a public meeting on September 24, 2012, from 1 p.m. to 4 p.m. in Washington, DC. Any person requesting to speak at the public meeting should submit such request along with a signed original and an electronic copy of the statements to be given at the public meeting before 4 p.m., September 10, 2012. Written comments are welcome, especially following the public meeting, and should be submitted by September 17, 2012.

ADDRESSES: The public meeting will be held at the U.S. Department of Energy, Forrestal Building, 8E-089, 1000 Independence Avenue SW., Washington, DC 20585-0121. Please note that foreign nationals participating in the public meeting are subject to advance security screening procedures. If a foreign national wishes to participate in the public meeting, please inform DOE of this fact as soon as possible by contacting Ms. Brenda Edwards at (202) 586-2945 so that the necessary procedures can be completed.

Stakeholders may submit comments, identified by docket number EERE-2012- BT-STD-0027 and/or Regulation Identifier Number (RIN) 1904-AC81, by any of the following methods:

• Federal eRulemaking Portal: http://www.regulations.gov. Follow the instructions for submitting comments.

• Email: ResDehumidifier2012STD0027@ee.doe.gov. Include docket number EERE-2012- BT-STD-0027 and/or RIN 1904-AC81 in the subject line of the message.

• Mail: Ms. Brenda Edwards, U.S. Department of Energy, Building Technologies Program, Mailstop EE-2J, 1000 Independence Avenue SW., Washington, DC 20585-0121. If possible, please submit all items on a CD. It is not necessary to include printed copies.

• Hand Delivery/Courier: Ms. Brenda Edwards, U.S. Department of Energy, Building Technologies Program, 950 L'Enfant Plaza SW., Suite 600, Washington, DC 20024. Phone: (202) 586-2945. Please submit one signed paper original. If possible, please submit all items on a CD. It is not necessary to include printed copies.

• Docket: The docket is available for review at http://www.regulations.gov, and will include Federal Register notices, framework document, notice of proposed rulemaking, public meeting attendee lists and transcripts, comments, and other supporting documents/materials throughout the rulemaking process. The docket can be accessed by searching for Docket No. EERE-2012- BT-STD-0027 at the regulations.gov Web site.

For further information on how to submit or review public comments or view hard copies of the docket in the Resource Room, contact Ms. Brenda Edwards at (202) 586-2945 or email: Brenda.Edwards@ee.doe.gov.

FOR FURTHER INFORMATION CONTACT: Mr. Stephen Witkowski, U.S. Department of Energy, Office of Energy Efficiency and Renewable Energy, Building Technologies, EE-2J, 1000 Independence Avenue SW., Washington, DC 20585-0121. Phone: (202) 586-7463. Email: stephen.witkowski1@ee.doe.gov.

Ms. Elizabeth Kohl, U.S. Department of Energy, Office of General Counsel, GC-71, 1000 Independence Avenue SW., Washington, DC 20585-0121. Phone: (202) 586-7796, email: elizabeth.kohl@hq.doe.gov.

SUPPLEMENTARY INFORMATION:

I. Introduction and Legal Authority

II. Test Procedures

III. Energy Conservation Standards

I. Introduction and Legal Authority

Title III, Part B of the Energy Policy and Conservation Act (EPCA) of 1975, Public Law 94-163, (42 U.S.C. 6291-6309), as amended, established an energy conservation program for consumer products other than automobiles.¹

¹ Upon codification in the U.S. Code, Part B was re-designated Part A for editorial reasons.

The Energy Policy Act of 2005 (EPACT 2005), Public Law 109-58, amended EPCA to establish energy conservation standards for dehumidifiers ² manufactured as of October 1, 2007. (Section 135(c)(4)) EPACT 2005 also required that DOE issue a final rule by October 1, 2009, to determine whether these standards should be amended. (Id.) Compliance with any amended standards would be required for dehumidifiers manufactured as of October 1, 2012. (Id.) In the event that DOE did not publish a final rule, EPACT 2005 specified a new set of amended standards with a compliance date of October 1, 2012. (Id.)

² Dehumidifiers are defined as self-contained, electrically operated, and mechanically encased assemblies consisting of: (1) A refrigerated surface (evaporator) that condenses moisture from the atmosphere; (2) a refrigerating system, including an electric motor; (3) an air-circulating fan; and (4) a means for collecting or disposing of the condensate. (42 U.S.C. 6291(34))

DOE issued an Advance Notice of Proposed Rulemaking (ANOPR) to consider energy conservation standards for dehumidifiers and other products. 72 FR 64432 (Nov. 15, 2007). The Energy Independence and Security Act of 2007 (EISA 2007), Public Law 110-140 subsequently amended EPCA to prescribe new energy conservation standards for dehumidifiers manufactured on or after October 1, 2012. DOE codified the EISA 2007 standards at 10 CFR 430.32(v)(2). 74 FR 12058 (Mar. 23, 2009).

EPCA also requires that, not later than 6 years after the issuance of a final rule establishing or amending a standard, DOE publish a notice of proposed rulemaking (NOPR) proposing new standards or a notice of determination that the existing standards do not need to be amended. (42 U.S.C. 6295(m)(1))

II. Test Procedures

EPCA specifies that the test procedure for dehumidifiers must be based on the U.S. Environmental Protection Agency (EPA)'s test criteria used under the ENERGY STAR Program in effect on August 8, 2005, unless DOE revises the test procedures. (42 U.S.C. 6293(b)(13)) Those ENERGY STAR test criteria require that American National Standards Institute (ANSI)/Association of Home Appliance Manufacturers (AHAM) Standard DH-1 be used to measure capacity in pints of moisture removed per day, while Canada's CAN/Canadian Standards Association (CSA)-C749-94 is used to calculate the energy factor (EF) in terms of liters of moisture removed per kilowatt-hour (kWh). DOE codified the test procedure requirements from EPCA for dehumidifiers at 10 CFR part 430 subpart B, appendix X. 71 FR 71340 (Dec. 8, 2006).

EPCA requires that DOE amend the test procedures for certain residential products, including dehumidifiers, to incorporate measures of standby mode and off mode energy use, if technically feasible. DOE published a NOPR in which it proposed to incorporate by reference in the test procedures for dehumidifiers and other products an international test method for measuring standby mode and off mode power consumption, International Electrotechnical Commission (IEC) Standard 62301. 75 FR 75290 (Dec. 2, 2010). DOE subsequently published a Supplemental Notice of Proposed Rulemaking (SNOPR) to propose referencing the updated version of IEC Standard 62301. 76 FR 58346 (Sept. 20, 2011). In a second SNOPR, DOE proposed in relevant part to measure both capacity and EF for dehumidifiers according to the current version of AHAM Standard DH-1. 77 FR 31444 (May 25, 2012).

III. Energy Conservation Standards

During this rulemaking, DOE will determine whether to further amend the energy conservation standards for residential dehumidifiers. (42 U.S.C. 6295(cc)). EPCA requires that any new or amended energy conservation standard be designed to achieve the maximum improvement in energy or water efficiency that is technologically feasible and economically justified. To determine whether a standard is economically justified, EPCA requires that DOE determine whether the benefits of the standard exceed its burdens by considering, to the greatest extent practicable, the following:

(1) The economic impact of the standard on the manufacturers and consumers of the affected products;

(2) The savings in operating costs throughout the estimated average life of the product compared to any increases in the initial cost, or maintenance expense;

(3) The total projected amount of energy and water (if applicable) savings likely to result directly from the imposition of the standard;

(4) Any lessening of the utility or the performance of the products likely to result from the imposition of the standard;

(5) The impact of any lessening of competition, as determined in writing by the Attorney General, that is likely to result from the imposition of the standard;

(6) The need for national energy and water conservation; and

(7) Other factors the Secretary considers relevant.

(42 U.S.C. 6295 (o)(2)(B)(i))

To begin the required rulemaking process, DOE has prepared a framework document to explain the issues, analyses, and processes that it is considering for the development of amended energy conservation standards for residential dehumidifiers. The framework document is available at http://www1.eere.energy.gov/buildings/appliance_standards/residential/dehumidifiers.html.

Additionally, DOE will hold a public meeting to focus on the analyses and issues described in the framework document. DOE encourages anyone who wishes to participate in the public meeting to view the framework document and to be prepared to discuss its contents. Public meeting participants need not limit their comments to the topics identified in the framework document; DOE is also interested in receiving views on other relevant issues that participants believe would affect energy conservation standards for these products. DOE welcomes all interested parties, regardless of whether they participate in the public meeting, to submit in writing comments and information on matters addressed in the framework document and on other matters relevant to consideration of standards for residential dehumidifiers.

DOE will conduct the public meeting in an informal conference style. A court reporter will record the minutes of the meeting. The discussion will not include proprietary information, costs or prices, market shares, or other commercial matters regulated by U.S. antitrust laws.

After the public meeting and the expiration of the period for submitting written statements, DOE will begin collecting data, conducting the analyses as discussed at the public meeting, and reviewing public comments.

Anyone who wishes to participate in the public meeting, receive meeting materials, or be added to the DOE mailing list to receive future notices and information about the rulemaking process for residential dehumidifiers should contact Ms. Brenda Edwards at (202) 586-2945

Issued in Washington, DC, on July 31, 2012.
Kathleen B. Hogan,
Deputy Assistant Secretary of Energy, Energy Efficiency and Renewable Energy.

[FR Doc. 2012-20231 Filed 8-16-12; 8:45 am]

BILLING CODE 6450-01-P